DEPARTMENT OF ENERGY

Federal Energy Regulatory Commission

[Project No. 4639-033]

Ampersand Christine Falls Hydro, LLC; Notice of Revised Procedural Schedule for Environmental Assessment for the Proposed Project Relicense

On September 29, 2021, Ampersand Christine Falls Hydro, LLC filed an application for a subsequent minor license for the 850-kilowatt Christine Falls Hydroelectric Project (Christine Falls Project or project; FERC No. 4639). On November 9, 2023, Commission staff issued a notice of intent to prepare an environmental assessment (EA) to evaluate the effects of relicensing the project. The notice of intent included an anticipated schedule for issuing the EA.

By this notice, Commission staff is updating the procedural schedule for completing the EA. The revised schedule is shown below. Further revisions to the schedule may be made as appropriate.

Milestone | Target date
Issue EA | October 2024.

Any questions regarding this notice may be directed to Andy Bernick at (202) 502-8660 or andrew.bernick@ferc.gov.

Dated: September 5, 2024.
Debbie-Anne A. Reese,
Acting Secretary.

[FR Doc. 2024-20593 Filed 9-10-24; 8:45 am]

BILLING CODE 6717-01-P